ENVIRONMENTAL PROTECTION AGENCY

[FRL-8895-4]

Notice of Proposed Administrative Cashout Agreement Pursuant to Section 122(H)(1) of the Comprehensive Environmental Response, Compensation, and Liability Act; In Re: Hassan Barrel Superfund Site, Fort Wayne, Allen County, IN

AGENCY: Environmental Protection Agency.

ACTION: Notice; request for public comment.

SUMMARY: Notice is hereby given of a proposed administrative settlement under CERCLA concerning the Hassan Barrel Superfund Site (“Site”) in Fort Wayne, Allen County, Indiana. Subject to review and comment by the public pursuant to this Notice, the settlement has been approved by the United States Department of Justice. The settlement resolves a United States Environmental Protection Agency (EPA) claim under Sections 106, 107(a), and 122 of CERCLA, against 61 parties who have executed binding certifications of their consent to the settlement, as listed below in the Supplementary Information section.

The settlement requires the settling parties to pay a total of $950,000 to the Hazardous Substances Superfund, Hassan Barrel Superfund Site, Special Account. Each settling party is required to pay an amount specified for that party in the settlement based upon the volume of waste that party contributed to the Site. The settling parties shall also pay to the EPA, 50% of the net environmental insurance proceeds recovered and received by some or all of the settling parties in a pending insurance recovery action. The payments shall not exceed the difference between $950,000 and EPA's estimate of total past response costs, which is approximately $1.7 million. Payments received shall be applied, retained, or used to finance the response actions taken or to be taken at or in connection with the Site.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA, Region 5, 7th Floor File Room, 77 West Jackson Boulevard, Chicago, Illinois.

DATES: Comments must be submitted on or before May 22, 2009.

ADDRESSES: The proposed settlement is available for public inspection at the EPA, Region 5, 7th Floor File Room, 77 West Jackson Boulevard, Chicago, Illinois. In addition, a copy of the proposed settlement also may be obtained from Nola M. Hicks, Associate Regional Counsel (C-14J), Region 5, 77 West Jackson Boulevard, Chicago, Illinois 60604-3590, or by calling (312) 886-7949. Comments should reference the Hassan Barrel Superfund Site, Fort Wayne, Allen County, Indiana and EPA Docket No. and should be addressed to Nola M. Hicks, Associate Regional Counsel (C-14J), Region 5, 77 West Jackson Boulevard, Chicago, Illinois 60604.

SUPPLEMENTARY INFORMATION: The parties listed below have executed binding certifications of their consent to participate in the settlement.

The Performing Parties are as follows: Austin Petroleum, Inc., Buis Oil Company, Inc., Chroma Source Inc., Cintas Corporation, Colwell, Inc., Cooper Standard Automotive, Crystal Flash Petroleum Corporation, Dreyer's Grand Ice Cream, Inc., Fort Wayne Newspapers, Inc., Franklin Electric Co. Inc., Gregory Porter dba Porter's BP, Hartson-Kennedy Cabinet Top Co. Inc., Heritage-Cristal Clean LLC, Heritage Environmental Services LLC, Hoosier Tire & Rubber Corp., J.M. Reynolds Oil Co. Inc., Co-Alliance LLP f/k/a LaPorte County Co-op, Master Petroleum Products Inc., North Central Co-op, Phelps Dodge Industries Inc., Rackham Service Corp., Rea Magnet Wire Company Inc., Thomson Inc., Warner Oil Co., Yoder Oil.

The Buy-out Parties are as follows: 14/69 Car Wash Super Center Inc., American Electric Power Service Corporation on behalf of itself and Indiana Michigan Power Company, Autoliv ASP Inc., Carpenter Co., CME Automotive Corporation, Cole Pattern & Engineering, CTS Corporation, Eaton Corp/Eaton Aeroquip Inc., Fasson Roll North American Division of Avery Dennison Corporation, Gallahan Oil Co. Inc., Grabill Cabinet Company Inc., Griffith Rubber Mills of Garrett LLC, Harris Kayot/Fort Wayne Anodizing, K-Com Transportation Services Inc. (Kemark Environmental Service) Kemco International Inc., Keystone RV Company, Kimball International Inc. and Kimball Electronic Inc., Labecca LLC, Lift All Division of Hydra-Tech, Inc., McCoy Bolt Works Inc., McGill Manufacturing Co., McIntosh Energy Co. Inc., Metalloid Corporation, Parrot Press Inc., Elantas PDG Inc. f/k/a The PD George Company, Group Dekko Inc. f/k/a Pent Technologies, Rieke Corporation, Skyline Corporation, Square D, Sroufe Healthcare Products/Wilmot Holdings, Stonestreet & Stonestreet Oil Company (S&S Oil), Trelleborg Sealing Solutions (TSS F Wayne), Trelleborg YSH Inc., Tuthill Transfer Systems Tuthill Corp., United Technologies Corporation, Waggoner's Fuel Co. Inc.

FOR FURTHER INFORMATION CONTACT: Nola M. Hicks, Associate Regional Counsel (C-14J), Region 5, 77 West Jackson Boulevard, Chicago, Illinois 60604, or call (312) 886-7949.

Authority: The Comprehensive Environmental Response, Compensation and Liability Act, of 1980, 42 U.S.C. 9604, 9606(a), 9607, and 9622, as amended.

Dated: April 8, 2009.
Richard C. Karl,
Director, Superfund Division, Region 5.

[FR Doc. E9-9211 Filed 4-21-09; 8:45 am]

BILLING CODE 6560-50-P